DEPARTMENT OF THE INTERIOR

National Park Service

[NPS-WASO-NAGPRA-NPS0035710; PPWOCRADN0-PCU00RP14.R50000]

Notice of Intent To Repatriate Cultural Items: U.S. Army Corps of Engineers, Mobile District, Mobile, AL

AGENCY: National Park Service, Interior.

ACTION: Notice.

SUMMARY: In accordance with the Native American Graves Protection and Repatriation Act (NAGPRA), the U.S. Army Corps of Engineers, Mobile District, intends to repatriate certain cultural items that meet the definition of unassociated funerary objects and that have a cultural affiliation with the Indian Tribes or Native Hawaiian organizations in this notice. The cultural items were removed from Lowndes and Monroe Counties, MS.

DATES: Repatriation of the cultural items in this notice may occur on or after May 26, 2023.

ADDRESSES: Ms. Alexandria Smith, U.S. Army Corps of Engineers, Mobile District, 109 St. Joseph Street, P.O. Box 2288, Mobile, AL 36628-0001, telephone (251) 690-2728, email Alexandria.N.Smith@usace.army.mil.

SUPPLEMENTARY INFORMATION: This notice is published as part of the National Park Service's administrative responsibilities under NAGPRA. The determinations in this notice are the sole responsibility of the U.S. Army Corps of Engineers, Mobile District. The National Park Service is not responsible for the determinations in this notice. Additional information on the determinations in this notice, including the results of consultation, can be found in the summary or related records held by the U.S. Army Corps of Engineers, Mobile District.

Description

Thirty cultural items were removed from Lowndes County, MS. The Cofferdam Site (22LO599) is an Early through Late Woodland occupation site featuring some Miller II components. Cofferdam was identified by Army Corps of Engineers personnel during the excavation of the cofferdam for the Columbus Lock and Dam of the Tennessee-Tombigbee Waterway, and it was excavated by the Mississippi State University Department of Anthropology under the direction of James R. Atkinson and field crew chief G. Gerald Berry from mid-August to the first week of October 1975. The 30 lots of unassociated funerary objects are consist of four lots of lithics, one lot of noncultural rock, two lots of pebbles, two lots ceramics, three lots of shells, seven lots of faunal remains, one lot of flotation samples, one lot of sandstone, three lots of clay, one lot of daub, two lots of firecracked rock, two lots of groundstone, and one lot of nuts.

Nine cultural items were removed from Lowndes County, MS. The River Cut site (22LO860) is a small village site containing Woodland and Mississippian components as well as Miller III components with some signs of possible Miller II habitation. The site was reported to the USACE, Mobile District, in 1983, and following the salvage removal of a burial from an eroding bank in 1984, the site was excavated by the Cobb Institute of Archaeology, Mississippi State University, under principal investigator Janet Rafferty, with Mary Evelyn Starr, between December 29 and 30, 1985 and from July 23 through September 29, 1986. The nine lots of unassociated funerary objects consist of four lots of ceramics, one lot of lithics, one lot of faunal remains, one lot of shells, one lot of charcoal, and one lot of soil samples.

Three cultural items were removed from Monroe County, MS. One of several sites identified during early mitigation measures for the prospective Tennessee Tombigbee Waterway, the SW Amory site (22MO710) was excavated between December 1978 and May 1979 under the direction of Judith A. Bense. No further work was ever conducted. The three lots of unassociated funerary objects consist of one lot of faunal remains, one lot of lithics, and one lot of soil samples.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, other information, and expert opinion.

Determinations

Pursuant to NAGPRA and its implementing regulations, and after consultation with the appropriate Indian Tribes and Native Hawaiian organizations, the U.S. Army Corps of Engineers, Mobile District has determined that:

• The 42 cultural items described above are reasonably believed to have been placed with or near individual human remains at the time of death or later as part of the death rite or ceremony and are believed, by a preponderance of the evidence, to have been removed from a specific burial site of a Native American individual.

• There is a relationship of shared group identity that can be reasonably traced between the cultural items and The Chickasaw Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 26, 2023. If competing requests for repatriation are received, the U.S. Army Corps of Engineers, Mobile District must determine the most appropriate requestor prior to repatriation. Requests for joint repatriation of the cultural items are considered a single request and not competing requests. The U.S. Army Corps of Engineers, Mobile District is responsible for sending a copy of this notice to the Indian Tribe identified in this notice.

Authority: Native American Graves Protection and Repatriation Act, 25 U.S.C. 3003, and the implementing regulations, 43 CFR 10.8, 10.10, and 10.14.

Dated: April 19, 2023.
Melanie O'Brien,
Manager, National NAGPRA Program.

[FR Doc. 2023-08808 Filed 4-25-23; 8:45 am]

BILLING CODE 4312-52-P